RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB) to request a revision to a currently approved collection of information: 3220-0022, Application and Claim for Unemployment Benefits and Employment Service consisting of Form(s) UI-1 and UI-1 (Internet), Application for Unemployment Benefits and Employment Service, and UI-3 and UI-3 (Internet), Claim for Unemployment Benefits. Our ICR describes the information we seek to collect from the public. Review and approval by OIRA ensures that we impose appropriate paperwork burdens.

The RRB invites comments on the proposed collection of information to determine (1) the practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Section 2 of the Railroad Unemployment Insurance Act (RUIA), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR part 325.

Form UI-1 (or its Internet equivalent, Form UI-1 (Internet)), Application for Unemployment Benefits and Employment Service, is completed by a claimant for unemployment benefits once in a benefit year, at the time of first registration. Completion of Form UI-1 or UI-1 (Internet) also registers an unemployment claimant for the RRB's employment service. The RRB also utilizes Form UI-3, (or its Internet equivalent Form UI-3 (Internet)) Claim for Unemployment Benefits for use in claiming unemployment benefits for days of unemployment in a particular registration period, normally a period of 14 days.

Completion of Forms UI-1, UI-1(Internet), UI-3 and UI-3 (Internet) is required to obtain or retain benefits. The number of responses required of each claimant varies, depending on their period of unemployment.

Previous Requests for Comments: The RRB has already published the initial 60-day notice (72 FR 47085-86 on August 22, 2007) required by 44 U.S.C. 3506(c)(2). That request elicited no comments.

Information Collection Request (ICR)

Title: Application and Claim for Unemployment Benefits and Employment Service.

OMB Control Number: 3220-0022.

Form(s) submitted: UI-1, UI-1 (Internet), UI-3, UI-3 (Internet).

Type of request: Revision of a currently approved collection.

Affected public: Individuals or households.

Abstract: Under Section 2 of the Railroad Unemployment Insurance Act, unemployment benefits are provided for qualified railroad employees. The collection obtains the information needed for determining the eligibility to and amount of such benefits from railroad employees.

Changes Proposed: The RRB proposes no changes to Form(s) UI-1, UI-1 (Internet), UI-3, and UI-3 (Internet).

The burden estimate for the ICR is as follows:

Estimated Completion Time for Form(s): Completion time for Form UI-1 and UI-1 (Internet) is estimated at 10 minutes. Completion time for Form UI-3 and UI-3 (Internet) is estimated at 6 minutes.

Estimated annual number of respondents: 9,977.

Total annual responses: 84,303.

Total annual reporting hours: 9,096.

Additional Information or Comments: Copies of the forms and supporting documents can be obtained from Charles Mierzwa, the agency clearance officer (312-751-3363) or Charles.Mierzwa@rrb.gov.

Comments regarding the information collection should be sent to Ronald J. Hodapp, Railroad Retirement Board, 844 North Rush Street, Chicago, Illinois 60611-2092 or Ronald.Hodapp@RRB.GOV, and to the Office of Management Budget at ATTN: Desk Officer for RRB, Fax: (202) 395-6974 or via E-mail to: OIRA_Submission@omb.eop.gov.

Charles Mierzwa,
Clearance Officer.

[FR Doc. E7-21076 Filed 10-25-07; 8:45 am]

BILLING CODE 7905-01-P